DEPARTMENT OF DEFENSE

Office of the Secretary

32 CFR Part 199

[DOD-2011-HA-0136]

RIN 0720-AB56

Civilian Health and Medical Program of the Uniformed Services (CHAMPUS); TRICARE Uniform Health Maintenance Organization (HMO) Benefit—Prime Enrollment Fee Exemption for Survivors of Active Duty Deceased Sponsors and Medically Retired Uniformed Services Members and Their Dependents; Withdrawal

AGENCY: Office of the Secretary, DoD.

ACTION: Proposed rule; withdrawal.

SUMMARY: On Thursday, August 8, 2013 (78 FR 48366-48367), the Department of Defense published a proposed rule titled “Civilian Health and Medical Program of the Uniformed Services (CHAMPUS); TRICARE Uniform Health Maintenance Organization (HMO) Benefit—Prime Enrollment Fee Exemption for Survivors of Active Duty Deceased Sponsors and Medically Retired Uniformed Services Members and Their Dependents.” Subsequent to the publication of the proposed rule in the Federal Register, DoD discovered that an identical proposed rule published in the Federal Register on Friday, June 7, 2013 (78 FR 34292-34293). DoD is hereby withdrawing the proposed rule that published in the Federal Register on Thursday, August 8, 2013.

DATES: As of August 19, 2013 the proposed rule published August 8, 2013 (78 FR 48366-48367), is withdrawn.

FOR FURTHER INFORMATION CONTACT: Patricia Toppings, 571-372-0485.

Dated: August 14, 2013.
Aaron Siegel,
Alternate OSD Federal Register Liaison Officer, Department of Defense.

[FR Doc. 2013-20121 Filed 8-16-13; 8:45 am]

BILLING CODE 5001-06-P